NATIONAL SCIENCE FOUNDATION

Agency Information Collection Activities: Proposed Collection; Comment Request

AGENCY: National Science Foundation.

ACTION: Notice; retrospective evaluation of the Network for Earthquake Engineering Simulation (NEES).

SUMMARY: In compliance with the requirement of section 3506(c)(2)(A) of the Paperwork Reduction Act of 1995, for opportunity for public comment on proposed data collection projects, the National Science Foundation will publish periodic summaries of proposed projects to be submitted to the Office of Management and Budget (OMB) for review and approval.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

ADDRESSES: You may submit comments via regular mail to Dr. Joy Pauschke, National Science Foundation, Suite 545, 4201 Wilson Blvd, Arlington, VA, 22230, or via electronic mail to jpauschk@nsf.gov.

FOR FURTHER INFORMATION CONTACT: To request more information on the proposed project or to obtain a copy of the data collection plans and instruments, contact Dr. Joy Pauschke, National Science Foundation, Suite 545, 4201 Wilson Blvd, Arlington, VA, 22230, or call non-toll-free number 703-292-8360, or email your request, including your address to: jpauschk@nsf.gov.

DATES: Written comments on this notice must be received by December 21, 2010 to be assured of consideration. Comments received after that date will be considered to the extent practicable.

SUPPLEMENTARY INFORMATION:

Proposed Collection

Title: Retrospective Evaluation of the Network for Earthquake Engineering Simulation.

Type of Information Collection Request: New collection.

Need and Use of Information Collection: The purpose of the proposed information collection is to inform decision making regarding the future of NSF support for earthquake engineering research infrastructure beyond 2014. Information will be collected from NEES leaders and researchers regarding: (1) The current capabilities of the NEES network relative to the needs of the research community; (2) characteristics of the users of NEES facilities and resources; (3) strengths and weaknesses of program design and implementation; (4) costs and benefits of the consortium model currently employed by NEES relative to alternatives; (5) effectiveness of recent changes to consortium design at achieving their intended results; and (6) program outputs and outcomes to date. Results of the retrospective evaluation will be reviewed by NSF staff as well as a panel of distinguished experts in the field of earthquake engineering who will make recommendations to NSF about the future of the program.

Frequency of Response: Once.

Affected Public: Individuals.

Type of Respondents: NSF grantees. The annual reporting burden is as follows: Estimated Number of Respondents: 133. Estimated Number of Responses per Respondent: 1. Average Burden Hours Per Response: 0.65. Estimated Total Annual Burden Hours Requested: 87. The annualized cost to respondents is estimated at: $3,387.78. There are no Capital Costs to report. There are no Operating or Maintenance Costs to report.

Dated: October 15, 2010.
Suzanne H. Plimpton,
Reports Clearance Officer, National Science Foundation.

[FR Doc. 2010-26527 Filed 10-21-10; 8:45 am]

BILLING CODE 7555-01-P